DEPARTMENT OF HOUSING AND URBAN DEVELOPMENT

[Docket No. FR-6270-N-01]

Notice of a Federal Advisory Committee Meeting Manufactured Housing Consensus Committee

AGENCY: Office of the Assistant Secretary for Housing—Federal Housing Commissioner, Department of Housing and Urban Development (HUD).

ACTION: Notice of Federal Advisory Committee meetings: Manufactured Housing Consensus Committee (MHCC, Committee).

SUMMARY: This notice sets forth the schedule and proposed agenda for a meeting of the Manufactured Housing Consensus Committee, to be held via teleconference and webinar. The meeting is open to the public. The agenda for the meeting provides an opportunity for citizens to comment on the business before the MHCC.

DATES: The MHCC Meeting will be held on June 10, 2021, 10:00 a.m. to 5:00 p.m. Eastern Standard Time (EST).

The teleconference number is: 301-715-8592 or 646-558-8656 and the Meeting ID is: 941 9545 5054. To access the webinar, use the following link: https://zoom.us/j/94195455054.

FOR FURTHER INFORMATION CONTACT: Teresa B. Payne, Administrator, Office of Manufactured Housing Programs, Department of Housing and Urban Development, 451 7th Street SW, Room 9166, Washington, DC 20410, telephone 202-402-2698 (this is not a toll-free number). Persons who have difficulty hearing or speaking may access this number via TTY by calling the Federal Relay Service at 800-877-8339 (this is a toll-free number).

SUPPLEMENTARY INFORMATION: Notice of this meeting is provided in accordance with the Federal Advisory Committee Act, 5 U.S.C. App. 10(a)(2) through implementing regulations at 41 CFR 102-3.150. The MHCC was established by the National Manufactured Housing Construction and Safety Standards Act of 1974, 42 U.S.C. 5403(a)(3), as amended by the Manufactured Housing Improvement Act of 2000, (Pub. L. 106-569, Sec. 601, et seq.). According to 42 U.S.C. 5403, as amended, the purposes of the MHCC are to:

• Provide periodic recommendations to the Secretary to adopt, revise, and interpret the Federal manufactured housing construction and safety standards in accordance with this subsection;

• Provide periodic recommendations to the Secretary to adopt, revise, and interpret the procedural and enforcement regulations, including regulations specifying the permissible scope and conduct of monitoring in accordance with subsection (b); and

• Be organized and carry out its business in a manner that guarantees a fair opportunity for the expression and consideration of various positions and for public participation.

The MHCC is deemed an advisory committee not composed of Federal employees.

Public Comment: Citizens wishing to make comments on the business of the MHCC must register in advance by contacting the Administering Organization (AO), Home Innovation Research Labs; Attention: Kevin Kauffman, 400 Prince Georges Blvd., Upper Marlboro, MD 20774, or email to mhcc@homeinnovation.com, or call 888-602-4663. With advance registration, members of the public will have an opportunity to provide written comments relative to agenda topics for the Committee's consideration. All written comments must be provided to mhcc@homeinnovation.com. Written comments must be provided no later than June 3, 2020. Please note, written comments submitted will not be read during the meeting but will be provided to the MHCC members prior to the meeting. The MHCC will also provide an opportunity for oral public comments on specific matters before the MHCC at each meeting. The total amount of time for oral comments will be 30 minutes, in two 15-minute periods, with each commenter limited to two minutes, if necessary, to ensure pertinent Committee business is completed and all public comments can be expressed. The Committee will not respond to individual written or oral statements; however, it will take all public comments into account in its deliberations. The MHCC strives to accommodate citizen comments to the extent possible within the time constraints of the meeting agenda.

Tentative Agenda for MHCC Teleconference

Thursday, June 10, 2021—10 a.m. to 5 p.m. ET

I. Call to Order—MHCC Chair & Designated Federal Officer (DFO)

Roll Call—AO

II. Opening Remarks—MHCC Chair & DFO

Introductions:

i. MHCC Members

ii. HUD Staff

iii. Guests

Administration Announcements—DFO & AO

III. Approval of draft minutes from January 7, 2021 MHCC special meeting on the Advance Notice of Public Rulemaking on Minimum Payments to the States.

IV. Public Comment Period—15 minutes

V. Report from the Technical System Subcommittee to the MHCC and Review of Current Log & Action Items

[Log 211, Log 212, Log 216, Log 219, Log 222, Log 223]

VI. Report from the Regulatory Enforcement Subcommittee to the MHCC and Review of Current Log & Action Items

[Log 195, Log 209, Log 214, Log 218, DRC 4]

VII. Lunch from 12:30 p.m. to 1:30 p.m.

VIII. Report from the Structure & Design Subcommittee to the MHCC and Review of Current Log & Action Items

[Log 207, Log 208, Log 210, Log 213, Log 215, Log 217, Log 220, Log 221, Log 224]

IX. Presentation by Department of Energy regarding Manufactured Housing Energy Conservation Standards

X. Public Comment Period—15 minutes

XI. Wrap Up—DFO & AO

XII. Adjourn

Janet Golrick,
Acting, Chief of Staff for the Office of Housing—Federal Housing Administration.

[FR Doc. 2021-10953 Filed 5-24-21; 8:45 am]

BILLING CODE 4210-67-P